DEPARTMENT OF COMMERCE

International Trade Administration

[A-570-866]

Folding Gift Boxes From the People's Republic of China: Preliminary Results of the Second Sunset Review of the Antidumping Duty Order

AGENCY: Import Administration, International Trade Administration, Department of Commerce.

SUMMARY: On April 2, 2012, the Department of Commerce (“the Department”) initiated the second five-year (“sunset”) review of the antidumping duty order on certain folding gift boxes ¹ from the People's Republic of China (“PRC”) pursuant to section 751(c) of the Tariff Act of 1930, as amended (“the Act”). On the basis of a notice of intent to participate and an adequate substantive response filed on behalf of the domestic interested parties, as well as a lack of response from respondent interested parties, the Department determined to conduct an expedited sunset review of the Order, pursuant to section 751(c)(3)(B) of the Act and 19 CFR 351.218(e)(1)(ii)(C)(2). On July 23, 2012, the Department reconsidered its determination to conduct an expedited sunset review of the Order and determined instead to conduct a full sunset review of the Order on folding gift boxes from the PRC.² As a result of this sunset review, the Department preliminarily finds that revocation of the Order on folding gift boxes from the PRC would be likely to lead to continuation or recurrence of dumping at the levels indicated in the “Preliminary Results of Review” section of this notice.

¹ See Notice of Antidumping Duty Order: Certain Folding Gift Boxes From the People's Republic of China, 67 FR 864 (January 8, 2002) (“Order”).

² See Memorandum titled “Sunset Review of the Antidumping Duty Order on Folding Gift Boxes from the People's Republic of China: Adequacy Redetermination Memorandum,” (July 23, 2012).

DATES: Effective Date: October 26, 2012.

FOR FURTHER INFORMATION CONTACT: Demitri Kalogeropoulos; AD/CVD Operations, Import Administration, International Trade Administration, U.S. Department of Commerce, 14th Street and Constitution Avenue NW., Washington, DC 20230; telephone: 202-482-2623.

SUPPLEMENTARY INFORMATION:

Background

On April 2, 2012, the Department initiated the second sunset review of the Order on folding gift boxes from the PRC, pursuant to section 751(c) of the Act.³ On May 2, 2012, pursuant to 19 CFR 351.218(d)(3), The Folding Gift Boxes Fair Trade Coalition (“Domestic Parties”),⁴ filed a timely and adequate substantive response within 30 days after the date of publication of the initiation notice.⁵ The Department did not receive a substantive response from any respondent interested party. However, because the issues that the Department must analyze pursuant to the Final Modification for Reviews ⁶ are complex, we determined that this sunset review is extraordinarily complicated, pursuant to section 75l(c)(5)(C) of the Act. As a result, the Department is conducting a full sunset review of the Order on folding gift boxes from the PRC.

³ See Initiation of Second (“Sunset”) Review, 77 FR 19643 (April 2, 2012).

⁴ The Folding Gift Boxes Fair Trade Coalition is comprised of Harvard Folding Gift Box Company, Inc. and Graphic Packaging International, Inc., both U.S. producers of folding gift boxes.

⁵ See Substantive Response of the Domestic Parties (May 2, 2012).

⁶ See Antidumping Proceedings: Calculation of the Weighted-Average Dumping Margin and Assessment Rate in Certain Antidumping Duty Proceedings; Final Modification, 77 FR 8101 (February 14, 2012) (“Final Modification for Reviews”).

Scope of the Order

The products covered by the order are certain folding gift boxes. Folding gift boxes are a type of folding or knock-down carton manufactured from paper or paperboard. Folding gift boxes are produced from a variety of recycled and virgin paper or paperboard materials, including, but not limited to, clay-coated paper or paperboard and kraft (bleached or unbleached) paper or paperboard. The scope of the order excludes gift boxes manufactured from paper or paperboard of a thickness of more than 0.8 millimeters, corrugated paperboard, or paper mache. The scope also excludes those gift boxes for which no side of the box, when assembled, is at least nine inches in length.

Folding gift boxes included in the scope are typically decorated with a holiday motif using various processes, including printing, embossing, debossing, and foil stamping, but may also be plain white or printed with a single color. The subject merchandise includes folding gift boxes, with or without handles, whether finished or unfinished, and whether in one-piece or multi-piece configuration. One-piece gift boxes are die-cut or otherwise formed so that the top, bottom, and sides form a single, contiguous unit. Two-piece gift boxes are those with a folded bottom and a folded top as separate pieces. Folding gift boxes are generally packaged in shrink-wrap, cellophane, or other packaging materials, in single or multi-box packs for sale to the retail customer. The scope excludes folding gift boxes that have a retailer's name, logo, trademark or similar company information printed prominently on the box's top exterior (such folding gift boxes are often known as “not-for-resale” gift boxes or “give-away” gift boxes and may be provided by department and specialty stores at no charge to their retail customers). The scope of the order also excludes folding gift boxes where both the outside of the box is a single color and the box is not packaged in shrink-wrap, cellophane, other resin-based packaging films, or paperboard.

Imports of the subject merchandise are classified under Harmonized Tariff Schedules of the United States (“HTSUS”) subheadings 4819.20.0040 and 4819.50.4060. These subheadings also cover products that are outside the scope of the order. Furthermore, although the HTSUS subheadings are provided for convenience and customs purposes, our written description of the scope of the order is dispositive.

Analysis of Comments Received

A complete discussion of all issues raised in this sunset review is addressed in the accompanying Issues and Decision Memorandum.⁷ The issues discussed in the accompanying Preliminary Decision Memorandum include the likelihood of continuation or recurrence of dumping and the magnitude of the dumping margin likely to prevail if the Order is revoked. Parties may find a complete discussion of all issues raised in the review and the corresponding recommendations in this public memorandum which is on file electronically via Import Administration's Antidumping and Countervailing Duty Centralized Electronic Services System (“IA ACCESS”). Access to IA ACCESS is available to registered users at http://iaaccess.trade.gov and in the Central Records Unit room 7046 of the main Commerce building. In addition, a complete version of the Preliminary Decision Memorandum can be accessed directly on the Web at http://ia.ita.doc.gov/frn. The signed Preliminary Decision Memorandum and the electronic versions of the Preliminary Decision Memorandum are identical in content.

⁷ See the “Issues and Decision Memorandum for the Preliminary Results of the Second Sunset Review of the Antidumping Duty Order on Folding Gift Boxes From the People's Republic of China”, dated concurrently with this notice (“Preliminary Decision Memorandum”).

Preliminary Results of Sunset Review

Pursuant to section 751(c) of the Act, the Department preliminarily determines that revocation of the Order on folding gift boxes would likely lead to continuation or recurrence of dumping at the following weighted-average percentage margin:

⁸ Max Fortune Industrial Ltd. was excluded from the order. See Order.

Exporters | Weighted-average margin (percent)
All producers and exporters ⁸ | Above de minimis.

Interested parties may submit case briefs no later than 50 days after the date of publication of the preliminary results of this full sunset review, in accordance with 19 CFR 351.309(c)(1)(i). Any interested party may request a hearing within 30 days of publication of this notice in accordance with 19 CFR 351.310(c). Rebuttal briefs, which must be limited to issues raised in the case briefs, may be filed not later than the five days after the time limit for filing case briefs in accordance with 19 CFR 351.309(d).

A hearing, if requested, will be held two days after the date the rebuttal briefs are due. The Department will issue a notice of final results of this full sunset review, which will include the results of its analysis of issues raised in any such comments, no later than February 26, 2012.⁹

⁹ See Folding Gift Boxes From the People's Republic of China: Extension of Time Limits for Preliminary and Final Results of Second Antidumping Duty Sunset Review, 77 FR 45337 (July 31, 2012).

Notification Regarding Administrative Protective Order

This notice also serves as a preliminary reminder to parties subject to administrative protective order (“APO”) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing these preliminary results and notice in accordance with sections 751(c), 752, and 777(i)(1) of the Act.

Dated: October 19, 2012.
Paul Piquado,
Assistant Secretary for Import Administration.

[FR Doc. 2012-26410 Filed 10-25-12; 8:45 am]

BILLING CODE 3510-DS-P